DEPARTMENT OF ENERGY

Federal Energy Regulatory Commission

[Docket No. RP00-229-002]

Tennessee Gas Pipeline Company; Notice of Compliance Filing

July 14, 2000.

Take notice that on July 7, 2000, Tennessee Gas Pipeline Company (Tennessee), tendered for filing to become part of its FERC Gas Tariff, Fifth Revised Volume No. 1: The following revised tariff sheets, with a proposed effective date of May 1, 2000:

Second Substitute Fifth Revised Sheet No. 329

Second Substitute Third Revised Sheet No. 336

Second Substitute Second Revised Sheet No. 342A

Second Substitute Fifth Revised Sheet No. 347

Tennessee states that this filing is in compliance with the Commission's June 28, 2000 Letter Order in the above-referenced docket. Tennessee Gas Pipeline Co., 91 FERC ¶ 61,298 (2000). Tennessee states that the June 28, 2000 Letter Order required Tennessee to file revised tariff language to change all reference in the tariff's capacity release terms of “more than one year” to “one year or more” and to clarify the requirements of the waiver set forth at Commission regulation 18 CFR 284.8(i) (2000).

Tennessee states that a copy of this filing has been served on all parties who intervened in this proceeding.

Any person desiring to protest this filing should file a protest with the Federal Energy Regulatory Commission, 888 First Street, NE., Washington, DC 20426, in accordance with Section 385.211 of the Commission' Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-18305 Filed 7-19-00; 8:45 am]

BILLING CODE 6717-01-M